DEPARTMENT OF HEALTH AND HUMAN SERVICES

Centers for Disease Control and Prevention

[60Day-21-0792; Docket No. CDC-2021-0032]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Environmental Health Specialists Network (EHS-Net) Program. The goal of this food safety research program is to collect data in retail food establishments that will identify and address environmental factors (e.g., manager food safety certification, equipment condition, etc.) associated with retail-related foodborne illness and outbreaks.

DATES: CDC must receive written comments on or before June 4, 2021.

ADDRESSES: You may submit comments, identified by Docket No. CDC-2021-0032 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Environmental Health Specialists Network (EHS-Net) Program—OMB Control No. 0920-0792, Exp. 8/31/2021)—Revision—National Center for Environmental Health (NCEH), Centers for Disease Control and Prevention (CDC).

Background and Brief Description

The National Center for Environmental Health (NCEH), Centers for Disease Control and Prevention (CDC), is requesting a three-year Paperwork Reduction Act (PRA) clearance for a Revision of this generic clearance for Environmental Health Specialists Network (EHS-Net) data collections to support research focused on identifying and addressing the environmental causes of foodborne illness.

An estimated 47.8 million foodborne illnesses occur annually in the United States, resulting in 127,839 hospitalizations, and 3,037 deaths annually. These figures indicate that foodborne illness is a significant problem in the U.S. Reducing foodborne illness requires identification and understanding of the environmental factors that cause these illnesses. We need to know how and why food becomes contaminated with foodborne illness pathogens. This information can then be used to determine effective food safety prevention methods, increase regulatory program effectiveness, and decrease foodborne illness. The purpose of this food safety research program is to identify and understand environmental factors associated with foodborne illness and outbreaks. This program is conducted by the EHS-Net, a collaborative project of CDC, U.S. Food and Drug Administration (FDA), United States Department of Agriculture (USDA), and local and state sites.

Environmental factors associated with foodborne illness include both food safety practices (e.g., inadequate cleaning practices) and the factors in the environment associated with those practices (e.g., worker and retail food establishment characteristics). To understand these factors, we need to collect data from those who prepare food (i.e., food workers) and on the environments in which the food is prepared (i.e., retail food establishment kitchens). Thus, data collection methods for this generic clearance include: (1) Manager and worker interviews or pen-and-paper assessments, and (2) observation of kitchen environments. Both methods allow data collection on food safety practices and environmental factors associated with those practices.

To date, EHS-Net has conducted five studies under this generic clearance. The data from these studies have been disseminated to environmental public health/food safety regulatory programs and the food industry in the form of presentations at conferences and meetings, scientific journal publications, and website postings. The current package is a Revision of the previous PRA clearance from 2018. The sites in which data will be collected differ. CDC funded a renewal of the EHS-Net cooperative agreement in 2020; as a result, one site was dropped from the agreement (California), and one was added (Franklin County, Ohio). The other sites remained the same. These are: Harris County, Texas; Minnesota, New York; New York City, New York; Rhode Island; Southern Nevada Health District, Nevada; and Tennessee.

The total annual time burden requested will be reduced by 766 hours for reasons described below.

• Although the annual number of restaurants remains the same (n=400), we have reduced the number of respondents from ten to five food workers per restaurant. Thus, the total number of food workers to be interviewed is reduced from 4,000 to 2,000 per year.

• The average time burden for food workers has been reduced from 20 minutes to 17 minutes per response for recruiting, informed consent, and interview. Thus, the total time burden for food workers is reduced from 1,333 to 500 hours per year.

• There are no requested changes to the number of managers; however, their time burden has increased by 200 hours per year. We have transferred the respondent type for observation from health department staff in 2018 to the managers in 2021. Managers incur this additional time burden by allowing health department staff to conduct the observation activities in their establishments. This change does not result in any net difference in overall time burden requested but eliminates one respondent type.

The total estimated annual burden requested is 1,011 hours. There is no cost to the respondents other than their time.

Estimated Annualized Burden Hours
Type of respondents | Form name | Number of respondents | Number of responses per respondent | Average burden per response (in hours) | Total burden (in hours)
Retail managers | Manager Recruiting Script | 889 | 1 | 3/60 | 44
| Manager Interview/Assessment | 400 | 1 | 30/60 | 200
| Observation | 400 | 1 | 30/60 | 200
Retail food workers | Worker Recruiting Screener and Informed Consent | 2,000 | 1 | 2/60 | 67
| Worker Interview/Assessment | 2,000 | 1 | 15/60 | 500
Total |  |  |  |  | 1,011

Jeffrey M. Zirger,
Lead, Information Collection Review Office, Office of Scientific Integrity, Office of Science, Centers for Disease Control and Prevention.

[FR Doc. 2021-06883 Filed 4-2-21; 8:45 am]

BILLING CODE 4163-18-P